DEPARTMENT OF THE INTERIOR

Fish and Wildlife Service

Notice of Availability of Draft Comprehensive Conservation Plan, Draft Environmental Impact Statement, and Draft Wilderness Stewardship Plan for Cabeza Prieta National Wildlife Refuge

AGENCY: Fish and Wildlife Service, Interior.

ACTION: Notice of availability.

SUMMARY: This notice advises the public that the U.S. Fish and Wildlife Service (Service) will make available copies of the Draft Comprehensive Conservation Plan (CCP), Draft Environmental Impact Statement (EIS), and Draft Wilderness Stewardship Plan for the Cabeza Prieta National Wildlife Refuge in Pima and Yuma Counties, Arizona, for public review and comment. This draft CCP was prepared in compliance with the National Wildlife Refuge System Administration Act of 1966, as amended by the National Wildlife Refuge System Improvement Act of 1997 (16 U.S.C. 668dd et seq.), and the National Environmental Policy Act of 1969. It describes how the Service intends to manage the Refuge over the next 15 years.

DATES: Please submit written comments on the draft CCP on or before June 14, 2005.

ADDRESSES: The draft CCP is available on a compact disk or as a hard copy. To request a copy of the draft CCP please contact: Mr. John Slown, Biologist/Conservation Planner, U.S. Fish and Wildlife Service, National Wildlife Refuge System, Southwest Region, Division of Planning, P.O. Box 1306, Albuquerque, NM 87103; please specify the format you prefer. You may also access or download a copy of the draft CCP at the following Web site address: http://southwest.fws.gov/refuges/Plan/index.html.

FOR FURTHER INFORMATION CONTACT: Mr. John Slown, 505-248-7458; or e-mail: john_slown@fws.gov.

SUPPLEMENTARY INFORMATION: The National Wildlife System Administration Act of 1966, as amended by the National Wildlife Refuge Improvement Act of 1997, requires the Service to develop a CCP for each National Wildlife Refuge.

The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCP identifies wildlife-dependent recreational opportunities available to the public, including opportunities for hunting, fishing, wildlife observation and photography, and environmental education and interpretation.

Review of this project will be conducted in accordance with the requirements of the National Environmental Policy Act of 1969, as amended (42 U.S.C. 4321 et seq.), NEPA Regulations (40 CFR parts 1500-1508), other appropriate Federal laws and regulations, including the National Wildlife Refuge System Improvement Act of 1997, Executive Order 12996, and Service policies and procedures for compliance with those regulations.

Background

Cabeza Prieta National Wildlife Refuge was established in 1939 by Executive Order to protect wildlife and forage resources of the Sonoran Desert. In 1990 approximately 93 percent of the Refuge land area was designated Federal Wilderness by the Arizona Desert Wilderness Act of 1990.

The Refuge occupies approximately 860,010 acres of Sonoran Desert, including mountains, broad desert, and bajadas. The Refuge and adjacent Federal lands; including the Organ Pipe National Monument, managed by the U.S. National Park Service, and the USAF Barry M. Goldwater Range military training area; comprise the United States' range of the Endangered Sonoran pronghorn. The desert bighorn sheep is another species of conservation interest occurring on the Refuge.

The draft CCP and EIS propose and evaluate five management alternatives for the Refuge. All management alternatives implement recovery actions for the Endangered Sonoran pronghorn. The alternatives differ primarily in the level of active management intervention proposed to support the desert bighorn sheep. The first alternative is “no action” or continuance of current Refuge management. Under this alternative, the Refuge would continue to offer a limited desert bighorn sheep hunt each year in cooperation with the Arizona Game and Fish Department. Refuge staff would continue to maintain and supply supplemental water to exiting developed waters in desert bighorn sheep habitat. The second alternative focuses on limiting management interventions within Refuge wilderness. Under this alternative, developed wildlife waters in sheep habitat within the Refuge wilderness would not be maintained or supplied with supplemental water. The desert bighorn sheep hunt would also be discontinued. The third alternative includes limited management intervention in wilderness. Under this alternative, the Refuge would supply supplemental water to developed waters in sheep habitat within Refuge wilderness only during periods of severe drought. The desert bighorn sheep would be continued, but no hunting would be allowed during years of severe drought. The fourth alternative, identified as the Service's proposed alternative, would allow continued maintenance and water supply to existing developed waters in sheep habitat within Refuge wilderness and would include projects to increase the water collection efficiency of such waters. The Refuge desert bighorn sheep hunt program would continue unchanged under this alternative. The fifth alternative would include the maximum management intervention within Refuge wilderness. Under this alternative all existing developed waters in Refuge wilderness would be maintained and supplied with water, and new developed waters would be created. The desert bighorn sheep hunt program would continue unchanged under this alternative.

Public Meetings

The Service will hold public meetings to present the draft CCP, answer questions, and receive formal public comments in Yuma, Tucson, Sells, and Ajo, Arizona, during the public comment period. The exact location, time, and date of these meetings will be determined based on logistic issues. Notice of the meetings will be posted in local newspapers and other media outlets and given through mailings to individuals and organizations that have expressed interest in this planning effort.

Dated: March 4, 2005.
Domenick R. Ciccone,
Acting, Regional Director, Albuquerque, New Mexico.

[FR Doc. 05-5145 Filed 3-15-05; 8:45 am]

BILLING CODE 4310-55-P